DEPARTMENT OF THE INTERIOR

National Park Service

[NPS-WASO-NAGPRA-NPS0031917; PPWOCRADN0-PCU00RP14.R50000]

Notice of Inventory Completion: Department of Anthropology, University of South Florida, Tampa, FL

AGENCY: National Park Service, Interior.

ACTION: Notice.

SUMMARY: The Department of Anthropology, University of South Florida has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Department of Anthropology, University of South Florida. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Department of Anthropology, University of South Florida at the address in this notice by June 21, 2021.

ADDRESSES: Thomas J. Pluckhahn, Department of Anthropology, University of South Florida, 4202 E. Fowler Avenue, SOC 107, Tampa, FL 33620-8100, telephone (813) 549-9742, email tpluckhahn@usf.edu.

SUPPLEMENTARY INFORMATION: Notice is here given in accordance with the Native American Graves Protection and Repatriation Act (NAGPRA), 25 U.S.C. 3003, of the completion of an inventory of human remains under the control of the Department of Anthropology, University of South Florida, Tampa, FL. The human remains were removed from the southern Arkansas.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Department of Anthropology, University of South Florida professional staff in consultation with representatives of the Quapaw Nation [previously listed as The Quapaw Tribe of Indians]; Shawnee Tribe; and The Osage Nation [previously listed as Osage Tribe].

The Absentee-Shawnee Tribe of Indians of Oklahoma; Alabama-Quassarte Tribal Town; Apache Tribe of Oklahoma; Caddo Nation of Oklahoma; Coushatta Tribe of Louisiana; Delaware Nation, Oklahoma; Eastern Band of Cherokee Indians; Eastern Shawnee Tribe of Oklahoma; Jena Band of Choctaw Indians; Mississippi Band of Choctaw Indians; Santee Sioux Nation, Nebraska; The Chickasaw Nation; The Choctaw Nation of Oklahoma; The Muscogee (Creek) Nation; and the United Keetoowah Band of Cherokee Indians in Oklahoma were invited to consult but did not participate (hereafter, these non-participating Indian Tribes are referred to as “The Invited Tribes”).

History and Description of the Remains

At an unknown date, human remains representing, at minimum, one individual were removed from an unknown site in southern Arkansas. When the human remains were acquired by the University of South Florida is also unknown. The human remains may have been part of a larger donation from the St. Petersburg (Florida) Museum of History or another local museum. The human remains consist of a single mandible in two pieces and represent an adult of indeterminate sex. No known individual was identified. No associated funerary objects are present.

Based on geographical, archeological, oral traditional, and historical lines of evidence, as well as expert opinion, the Quapaw Nation [previously listed as The Quapaw Tribe of Indians]; Shawnee Tribe; and The Osage Nation [previously listed as Osage Tribe] are culturally affiliated with the human remains.

Determinations Made by the Department of Anthropology, University of South Florida

Officials of the Department of Anthropology, University of South Florida have determined that:

• Pursuant to 25 U.S.C. 3001(9), the human remains described in this notice represent the physical remains of one individual of Native American ancestry.

• Pursuant to 25 U.S.C. 3001(2), there is a relationship of shared group identity that can be reasonably traced between the Native American human remains and the Quapaw Nation [previously listed as The Quapaw Tribe of Indians]; Shawnee Tribe; and The Osage Nation [previously listed as Osage Tribe] (hereafter referred to as “The Tribes”).

Additional Requestors and Disposition

Lineal descendants or representatives of any Indian Tribe or Native Hawaiian organization not identified in this notice that wish to request transfer of control of these human remains should submit a written request with information in support of the request to Thomas J. Pluckhahn, Department of Anthropology, University of South Florida, 4202 E. Fowler Avenue, SOC 107, Tampa, FL 33620-8100, telephone (813) 549-9742, email tpluckhahn@usf.edu, by June 21, 2021. After that date, if no additional requestors have come forward, transfer of control of the human remains to The Tribes may proceed.

The Department of Anthropology, University of South Florida is responsible for notifying The Tribes and The Invited Tribes that this notice has been published.

Dated: May 6, 2021.
Melanie O'Brien,
Manager, National NAGPRA Program.

[FR Doc. 2021-10654 Filed 5-19-21; 8:45 am]

BILLING CODE 4312-52-P